DEPARTMENT OF AGRICULTURE

Food Safety and Inspection Service

[Docket No. FSIS-2023-0029]

2024 Rate Changes for the Basetime, Overtime, Holiday, Laboratory Services, and Export Application Fees

AGENCY: Food Safety and Inspection Service (FSIS), U.S. Department of Agriculture (USDA).

ACTION: Notice.

SUMMARY: FSIS is announcing the 2024 rates it will charge meat, poultry, and egg products establishments, and importers and exporters for providing voluntary, overtime, and holiday inspection and identification, certification, and laboratory services. Additionally, FSIS is announcing that there will be no changes to the fee FSIS assesses to exporters that choose to apply for export certificates electronically through the export component of the Agency's Public Health Information System. The 2024 basetime, overtime, holiday, and laboratory services rates will be applied on January 14, 2024.

DATES: FSIS will charge the rates announced in this notice beginning January 14, 2024.

FOR FURTHER INFORMATION CONTACT: For further information contact Michael Toner, Director, Budget Division, Office of the Chief Financial Officer; Email: Michael.toner@usda.gov, Telephone: (202) 365-1352.

SUPPLEMENTARY INFORMATION:

Background

On April 12, 2011, FSIS published a final rule amending its regulations to establish formulas for calculating the rates it charges meat, poultry, and egg products establishments and importers and exporters for providing voluntary, overtime, and holiday inspection and identification, certification, and laboratory services (76 FR 20220). In the final rule, FSIS stated that it would use the formulas to calculate the annual rates, publish the rates in Federal Register notices prior to the start of each calendar year, and apply the rates on the first FSIS pay period at the beginning of the calendar year. This notice provides the 2024 rates, which will be applied starting on January 14, 2024.

On September 6, 2017, FSIS published the Federal Register notice, “Public Health Information System (PHIS) Export Component Country Implementation” (82 FR 42056). The notice announced the delayed implementation of the export component to ensure sufficient testing and outreach to stakeholders and that the application fee would be recalculated based on available costs and number of applications but would not be assessed prior to January 1, 2019. In addition, FSIS announced that it would implement the PHIS Export Component with a limited number of countries and gradually expand implementation to additional countries.

On April 29, 2019, FSIS published the Federal Register notice, “Public Health Information System Export Component Fee” (84 FR 17999). The notice announced that starting June 1, 2019, FSIS would assess a fee of $4.01 to exporters that chose to apply for export certificates electronically through the export component of PHIS. As noted below, that fee remains unchanged since 2019.

2024 Rates and Calculations

The following table lists the 2024 Rates per hour, per employee, by type of service:

Service | 2024 Rate (estimates rounded to reflect billable quarter hour)
Basetime | $71.64
Overtime | 87.96
Holiday | 104.28
Laboratory | 103.24
Export Application | * 4.01
* Per application.

The regulations that cover these fees (other than the export application fee) state that FSIS will calculate the rates using formulas that include the Office of Field Operations (OFO) inspection program personnel's previous fiscal year's regular direct pay and regular hours (9 CFR 391.2, 391.3, 391.4, 590.126, 590.128, 592.510, 592.520, and 592.530). The final rates have been rounded to make the amount divisible by the quarter hour (15 minutes). Fifteen minutes is the minimum charge for the services covered by these rates.

FSIS determined the 2024 rates using the following calculations:

Basetime Rate = The quotient of dividing the Office of Field Operations (OFO) inspection program personnel's previous fiscal year's regular direct pay by the previous fiscal year's regular hours, plus the quotient multiplied by the calendar year's percentage of cost-of-living increase, plus the benefits rate, plus the travel and operating rate, plus the overhead rate, plus the allowance for bad debt rate.

The calculation for the 2024 basetime rate per hour per program employee is:

[FY 2023 OFO Regular Direct Pay divided by the previous fiscal year's Regular Hours ($476,421,039/15,341,750)] = $31.05 + ($31.05 * 5.2% (calendar year 2024 Cost of Living Increase)) = $32.67 + $13.34 (benefits rate) + $2.75 (travel and operating rate) + $22.86 (overhead rate) + $0.00 (bad debt allowance rate) = $71.62, rounded up to $71.64, so that it is divisible by 4.

Overtime Rate = The quotient of dividing the Office of Field Operations (OFO) inspection program personnel's previous fiscal year's regular direct pay by the previous fiscal year's regular hours, plus that quotient multiplied by the calendar year's percentage of cost-of-living increase, multiplied by 1.5 (for overtime), plus the benefits rate, plus the travel and operating rate, plus the overhead rate, plus the allowance for bad debt rate.

The calculation for the 2024 overtime rate per hour per program employee is:

[FY 2023 OFO Regular Direct Pay divided by previous fiscal year's Regular Hours ($476,421,039/15,341.750)] = $31.05 + ($31.05 * 5.2% (calendar year 2024 Cost of Living Increase)) = $32.67 * 1.5 = $49.01 + $13.34 (benefits rate) + $2.75 (travel and operating rate) + $22.86 (overhead rate) + $0.00 (bad debt allowance rate) = $87.95, rounded up to $87.96, so that it is divisible by 4.

Holiday Rate = The quotient of dividing the Office of Field Operations (OFO) inspection program personnel's previous fiscal year's regular direct pay by the previous fiscal year's regular hours, plus that quotient multiplied by the calendar year's percentage of cost-of-living increase, multiplied by 2 (for holiday pay), plus the benefits rate, plus the travel and operating rate, plus the overhead rate, plus the allowance for bad debt rate.

The calculation for the 2024 holiday rate per hour per program employee calculation is:

[FY 2023 OFO Regular Direct Pay divided by Regular Hours ($476,421,039/15,341,750)] = $31.05 + ($31.05 * 5.2% (calendar year 2024 Cost of Living Increase)) = $32.67 * 2 = $65.34 + $13.34 (benefits rate) + $2.75 (travel and operating rate) + $22.86 (overhead rate) + $0.00 (bad debt allowance rate) = $104.29, rounded down to $104.28, so that it is divisible by 4.

Laboratory Services Rate = The quotient of dividing the Office of Public Health Science (OPHS) previous fiscal year's regular direct pay by the OPHS previous fiscal year's regular hours, plus the quotient multiplied by the calendar year's percentage cost of living increase, plus the benefits rate, plus the travel and operating rate, plus the overhead rate, plus the allowance for bad debt rate.

The calculation for the 2024 laboratory services rate per hour per program employee is:

[FY 2023 OPHS Regular Direct Pay/OPHS Regular hours ($28,365,622/464,251)] = $61.10 + ($61.10 * 5.2% (calendar year 2024 Cost of Living Increase)) = $64.28 + $13.34 (benefits rate) + $2.75 (travel and operating rate) + $22.86 (overhead rate) + $0.00 (bad debt allowance rate) = $103.23, rounded up to $103.24, so that it is divisible by 4.

Calculations for the Benefits, Travel and Operating, Overhead, and Allowance for Bad Debt Rates

These rates are components of the basetime, overtime, holiday, and laboratory services rates formulas.

Benefits Rate: The quotient of dividing the previous fiscal year's direct benefits costs by the previous fiscal year's total hours (regular, overtime, and holiday), plus that quotient multiplied by the calendar year's percentage cost of living increase. Some examples of direct benefits are health insurance, retirement, life insurance, and Thrift Savings Plan basic and matching contributions.

The calculation for the 2024 benefits rate per hour per program employee is:

[FY 2023 Direct Benefits/(Total Regular hours + Total Overtime hours + Total Holiday hours) ($236,947,058/18,687,290)] = $12.68 + ($12.68 * 5.2% (calendar year 2024 Cost of Living Increase)) = $13.34.

Travel and Operating Rate: The quotient of dividing the previous fiscal year's total direct travel and operating costs by the previous fiscal year's total hours (regular, overtime, and holiday), plus that quotient multiplied by the calendar year's percentage of inflation.

The calculation for the 2024 travel and operating rate per hour per program employee is:

[FY 2023 Total Direct Travel and Operating Costs/(Total Regular hours + Total Overtime hours + Total Holiday hours) ($50,219,960/18,687,290)] = $2.69 + ($2.69 * 2.3% (2024 Inflation) = $2.75.

Overhead Rate: The quotient of dividing the previous fiscal year's indirect costs plus the previous fiscal year's information technology (IT) costs in the Public Health Data Communication Infrastructure System Fund plus the provision for the operating balance less any Greenbook costs (i.e., costs of USDA support services prorated to the service component for which fees are charged) that are not related to food inspection by the previous fiscal year's total hours (regular, overtime, and holiday) worked across all funds, plus the quotient multiplied by the calendar year's percentage of inflation.

The calculation for the 2024 overhead rate per hour per program employee is:

[FY 2023 Total Overhead/(Total Regular hours + Total Overtime hours + Total Holiday hours) ($417,650,727/18,687,290)] = $22.35 + ($22.35 * 2.3% (2024 Inflation) = $22.86.

Allowance for Bad Debt Rate: Previous fiscal year's total allowance for bad debt (for example, debt owed for overtime and holiday inspection services that is not paid in full by establishments that declare bankruptcy) divided by previous fiscal year's total hours (regular, overtime, and holiday) worked.

The 2024 calculation for bad debt rate per hour per program employee is:

[FY 2023 Total Bad Debt/(Total Regular hours + Total Overtime hours + Total Holiday hours) = ($73,707/18,687,290)] = $0.00.

2024 Electronic Export Application Fee

The 2024 Electronic Export Application Fee:

As published in FSIS' final rule, Electronic Export Application and Certification Charge; Flexibility in the Requirements for Export Inspection Marks, Devices, and Certificates; Egg Products Export Certification (81 FR 42225), the Electronic Export Application Fee Formula is:

FSIS stated in the 2016 final rule (81 FR 42225) and the 2017 Federal Register notice (82 FR 42056) that it would update and recalculate the fee based on the best available estimates for costs and number of applications; however, the number of export applications (the denominator in the formula) cannot be accurately assessed until a majority of countries are included in the export component. Therefore, because a majority of countries are not yet included in the PHIS Export component, the cost estimates and projected export applications in the final rule remain the best estimate for 2024, leaving the electronic export application fee unchanged.

Additional Public Notification

Public awareness of all segments of rulemaking and policy development is important. Consequently, FSIS will announce this Federal Register publication on-line through the FSIS web page located at: https://www.fsis.usda.gov/federal-register.

FSIS will also announce and provide a link through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form, AD-3027, USDA Program Discrimination Complaint Form, which can be obtained online at https://www.usda.gov/forms/electronic-forms, from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by: (1) Mail: U.S. Department of Agriculture, Office of the Assistant Secretary for Civil Rights, 1400 Independence Avenue SW, Washington, DC 20250-9410; or (2) Fax: (833) 256-1665 or (202) 690-7442; or (3) Email: program.intake@usda.gov.

USDA is an equal opportunity provider, employer, and lender.

Done at Washington, DC.
Paul Kiecker,
Administrator.

[FR Doc. 2023-28231 Filed 12-21-23; 8:45 am]

BILLING CODE 3410-DM-P